DEPARTMENT OF TRANSPORTATION

National Highway Traffic Safety Administration

[Docket No. NHTSA 2005-20428; Notice 2]

Hankook Tire America Corp., Grant of Petition for Decision of Inconsequential Noncompliance

Hankook Tire America Corp. (Hankook) has determined that certain tires it produced in 2003 and 2004 do not comply with S6.5(d) of Federal Motor Vehicle Safety Standard (FMVSS) No. 119, “New pneumatic tires for vehicles other than passenger cars.” Pursuant to 49 U.S.C. 30118(d) and 30120(h), Hankook has petitioned for a determination that this noncompliance is inconsequential to motor vehicle safety and has filed an appropriate report pursuant to 49 CFR part 573, “Defect and Noncompliance Reports.” Notice of receipt of a petition was published, with a 30-day comment period, on March 9, 2005, in the Federal Register (70 FR 11728). NHTSA received no comments.

A total of approximately 41,716 tires are involved, which were produced during the period April 1, 2003 through December 20, 2004. S6.5(d) of FMVSS No. 119 requires that the maximum load rating and corresponding inflation pressure of the tires be marked on the tire in both English and metric units. The noncompliant tires do not have the metric markings.

Hankook believes that the noncompliance is inconsequential to motor vehicle safety and that no corrective action is warranted. Hankook states that the noncompliance does not relate to motor vehicle safety, and that the problem has been corrected either by discontinuation or change of the mold of the affected tires.

NHTSA agrees that the noncompliance is inconsequential to safety. The correct English unit information required by FMVSS No. 119 is provided and therefore is likely to achieve the safety purpose of the requirement. NHTSA granted a petition for a similar noncompliance by Bridgestone/Firestone North American Tire, LLC in 2004 (69 FR 75106, December 15, 2004). Hankook has corrected the problem.

In consideration of the foregoing, NHTSA has decided that the petitioner has met its burden of persuasion that the noncompliance described is inconsequential to motor vehicle safety. Accordingly, Hankook's petition is granted and the petitioner is exempted from the obligation of providing notification of, and a remedy for, the noncompliance.

Authority: 49 U.S.C. 30118, 30120; delegations of authority at CFR 1.50 and 501.8.

Issued on: April 20, 2005.
Ronald L. Medford,
Senior Associate Administrator for Vehicle Safety.

[FR Doc. 05-8265 Filed 4-25-05; 8:45 am]

BILLING CODE 4910-59-P